DEPARTMENT OF ENERGY

Federal Energy Regulatory Commission

[Docket No. EL01-106-000]

Old Dominion Electric Cooperative v. PJM Interconnection, L.L.C.; Notice of Complaint

August 2, 2001.

Take notice that on July 31, 2001, Old Dominion Electric Cooperative (Old Dominion) filed a complaint against PJM Interconnection, L.L.C. (PJM). Old Dominion alleges that it is entitled to receive a credit to its transmission service charge from PJM for the facilities to be paid for and owned by Old Dominion related to the interconnection of Old Dominion's Rock Springs generation project. Old Dominion requests that the Commission direct PJM to provide Old Dominion such credits, and that the Commission direct PJM to modify its open access transmission tariff to provide that in circumstances where the transmission customer and the interconnection customer are the same entity, the transmission customer is entitled to a credit to its transmission service charge in order to recoup the costs paid for interconnection facilities.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before August 20, 2001. Protests will be considered by the Commission in determining the appropriate action to be taken, but will not serve to make protestants parties to the proceeding. Any person wishing to become a party must file a motion to intervene. Answers to the complaint shall also be due on or before August 20, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19879 Filed 8-7-01; 8:45 am]

BILLING CODE 6717-01-P